DEPARTMENT OF THE INTERIOR

Fish and Wildlife Service

[FWS-R2-R-2016-N245; FXRS12610200000-167-FF02R06000]

Draft Environmental Assessment on a Proposed Right-of-Way Permit Application for Pipelines Crossing Brazoria National Wildlife Refuge, Brazoria County, TX

AGENCY: Fish and Wildlife Service, Interior.

ACTION: Notice of availability; request for comments.

SUMMARY: We, the U.S. Fish and Wildlife Service (FWS), make available the draft Environmental Assessment (dEA) for issuance of a right-of-way (ROW) permit to Praxair, Inc. (Praxair) for construction, operation, and maintenance of a 24-inch carbon steel pipeline for transport of nitrogen, and a 14-inch carbon steel pipeline for transport of hydrogen, within an existing maintained 4.3-mile ROW pipeline corridor, with 21 existing pipelines crossing the Brazoria National Wildlife Refuge (NWR) in Brazoria County, Texas.

DATES: To ensure consideration of written comments on the issues and possible alternatives to be addressed in the documents, they must be received no later than April 1, 2016.

ADDRESSES: Comments, questions, and requests for further information may be submitted by U.S. mail to Project Leader, Texas Mid-coast NWR Complex, U.S. Fish and Wildlife Service, 2547 County Road 316, Brazoria, TX 77422; by email at jennifer_sanchez@fws.gov; by phone at 979-964-4011; or by fax to 979-964-4021.

SUPPLEMENTARY INFORMATION: We, U.S. Fish and Wildlife Service, make available the dEA for issuance of a ROW permit for a segment (4.3 miles) of the Praxair Dual Pipeline System Project on the Brazoria NWR. In accordance with the requirements of the National Environmental Policy Act of 1969 (NEPA) (42 U.S.C. 4321 et seq.), we advise the public that:

1. We have gathered the information necessary to determine impacts and formulate alternatives for the dEA related to potential issuance of a ROW to the Applicant (Praxair); and

2. The Applicant has developed a Construction Plan as part of the application for a ROW permit, which describes the measures the Applicant has agreed to take to minimize and mitigate impacts of the project.

Proposed Action

The proposed action involves the issuance of a 10-foot ROW permit by the FWS and the subsequent construction, operation, and maintenance of the Proposed Project. The term of the permit would be for 30 years. Construction methods, including matting the entire temporary work area, directional drilling under wetlands rather than open trench, and utilizing a push/pull method for laying the pipe through the salty prairie, are all designed to minimize the impact to refuge habitats and wildlife. Although impacts have been minimized, wildlife utilizing the existing ROW and adjacent habitat will be disturbed and/or displaced during construction. The applicant proposes to provide funds to be utilized to conserve natural habitats that will be added to the Brazoria or San Bernard NWR.

Proposed Project

Praxair proposes to use a combination of conventional open trenching and subsurface Horizontal Directional Drilling (HDD) in its construction methods to cross the refuge lands. The proposed two pipelines would be constructed at the same time, near the center of an existing maintained 300-foot-wide pipeline corridor, 4.3 miles in length, between existing pipelines. The existing pipeline corridor pre-dates FWS ownership of the land in fee title, and extends from Farm-to-Market Road 2004 on the northeast end to Austin Bayou on the southwest end. Construction of the proposed pipelines would require a 100-foot-wide temporary work area, including 90 feet of temporary workspace used during construction activities, and a 10-foot-wide ROW after construction is complete. Praxair is working with FWS staff in the development of its proposed plan of operations in order to determine construction methods and develop measures to avoid or minimize potential adverse impacts during construction activities. However, some impacts are unavoidable and can reasonably be anticipated during pipeline construction, operations, and maintenance activities. Conventional trenching for simultaneous construction of the proposed two pipelines would require excavation of an open trench approximately 5.5 to 6 feet deep, 8 feet wide at the bottom, and 19 feet wide at the surface, with an approximately 45-degree slope on the sides, depending on soil conditions. Workspace required for HDD sites would be 300 feet by 300 feet.

Alternatives

The only alternative to the proposed action that we are considering as part of this process is the No Action alternative, in which no ROW permit would be issued. Under a No Action alternative, the FWS would not issue the requested ROW permit; therefore, the Applicant would likely seek an alternate alignment, establishing a new ROW corridor around the refuge, as described in the dEA.

Public Availability of Documents

In addition to any methods in ADDRESSES, you can view or obtain documents at the following locations:

• Texas Mid-Coast National Wildlife Refuge Complex Headquarters Office, CR 316, Brazoria, TX, between the hours of 8 a.m. and 4:30 p.m., Monday through Friday.

• Our Web site: http://www.fws.gov/southwest/refuges/Plan/plansinprogress.html.

• At the following public libraries:

Library | Address | Phone number
Brazoria County Library—City of Lake Jackson Branch | 250 Circle Way, Lake Jackson, TX 77566 | 979-415-2590
Brazoria County Library—Angleton Branch | 401 E Cedar Street, Angleton, TX 77515 | 979-864-1519

Submitting Comments/Issues for Comment

We consider comments substantive if they:

• Question, with reasonable basis, the accuracy of the information in the document;

• Question, with reasonable basis, the adequacy of the environmental assessment (EA);

• Present reasonable alternatives other than those presented in the EA; and/or

• Provide new or additional information relevant to the assessment.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authorities

NEPA (42 U.S.C. 4321 et seq.) and its implementing regulations; and the National Wildlife Refuge System Administration Act of 1966 (Refuge Administration Act), as amended by the National Wildlife Refuge System Improvement Act of 1997 (Refuge Improvement Act).

Dated: February 25, 2016.
Joy Nicholopoulos,
Acting Regional Director, Southwest Region, U.S. Fish and Wildlife Service.

[FR Doc. 2016-04566 Filed 3-1-16; 8:45 am]

BILLING CODE 4333-15-P